DEPARTMENT OF COMMERCE

International Trade Administration

[A-588-810]

Mechanical Transfer Presses From Japan: Final Results of Antidumping Duty Administrative Review

AGENCY: Import Administration, International Trade Administration, Department of Commerce.

ACTION: Notice of final results of antidumping duty administrative review: mechanical transfer presses from Japan.

SUMMARY: The Department of Commerce (the Department) is conducting an administrative review of the antidumping duty order on mechanical transfer presses (MTPs) from Japan in response to a request by respondent, Komatsu, Ltd. (Komatsu). This review covers shipments of this merchandise to the United States during the period of February 1, 1999 through January 31, 2000. On March 8, 2001, we published our preliminary determination that U.S. sales were not made below normal value (NV). We have affirmed this finding in these final results. We will instruct the U.S. Customs Service to liquidate entries without regard to antidumping duties.

EFFECTIVE DATE: May 21, 2001.

FOR FURTHER INFORMATION CONTACT: Mark Hoadley or Sally Gannon, Antidumping/Countervailing Duty Enforcement, Import Administration, International Trade Administration, U.S. Department of Commerce, 14th Street and Constitution Avenue, NW., Washington, DC 20230; telephone (202) 482-0666 or (202) 482-0162, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (2000).

Background

On March 8, 2001, the Department published the preliminary results of review for the period February 1, 1999 through January 31, 2000 (66 FR 13891). We invited parties to comment on our preliminary results of review. On April 9, 2001, Komatsu submitted a case brief alleging that the Department had erroneously omitted home market indirect selling expenses from its analysis, and that the preliminary results as published in the Federal Register contained an error. On April 12, 2001, Komatsu withdrew its allegation regarding home market indirect selling expenses, but maintained its allegation of an error in the Federal Register notice. The Department has conducted this administrative review in accordance with section 751 of the Act.

Scope of Review

Imports covered by this review include MTPs currently classifiable under Harmonized Tariff Schedule (HTS) item numbers 8462.99.0035 and 8466.94.5040. The HTS subheadings are provided for convenience and Customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled. This review does not cover certain parts and accessories, which were determined to be outside the scope of the order. (See “Final Scope Ruling on Spare and Replacement Parts,” U.S. Department of Commerce, March 20, 1992; and “Final Scope Ruling on the Antidumping Duty Order on Mechanical Transfer Presses (MTPs) from Japan: Request by Komatsu, Ltd.,” U.S. Department of Commerce, October 3, 1996.) This review covers one manufacturer of MTPs, and the period February 1, 1999 through January 31, 2000.

Comments From Interested Parties and Changes Since the Preliminary Results

Komatsu has alleged that the Federal Register notice publishing the Department's preliminary results did not accurately state Komatsu's margin. Komatsu alleged that, while the notice stated that its margin was 0.99 percent, the Department had calculated its margin to be 0.00 percent. We agree with Komatsu. The Department calculated a preliminary margin of 0.00 percent for Komatsu, as can be seen in the Memorandum to the File from Mark Hoadley through Sally Gannon; Analysis of Komatsu, Ltd. (Feb. 14, 2001), and as can also be inferred from the surrounding context of the preliminary notice. Therefore, as there are no other allegations or comments from interested parties regarding our preliminary results of review, we find a margin of 0.00 percent for Komatsu for purposes of these final results.

Final Results of Review

We determine that the following percentage weighted-average margin exists for the period February 1, 1999 through January 31, 2000:

Manufacturer/ exporter | Time period | Margin percent
Komatsu, Ltd. | 02/01/99-01/31/00 | 0.00

Because the weighted-average dumping margin is zero, we will instruct the U.S. Customs Service to liquidate entries made during this review period without regard to antidumping duties for the subject merchandise that Komatsu exported.

Cash Deposit Requirements

The following deposit requirements will be effective upon publication of this notice of final results of administrative review for all shipments of MTPs from Japan entered, or withdrawn from warehouse, for consumption on or after the date of publication, as provided by section 751(a)(1) of the Act: (1) The cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 14.51 percent. This rate is the “All Others” rate from the LTFV investigation. These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: May 14, 2001.
Faryar Shirzad,
Assistant Secretary for Import Administration.

[FR Doc. 01-12751 Filed 5-18-01; 8:45 am]

BILLING CODE 3510-DS-P